DEPARTMENT OF ENERGY

Federal Energy Regulatory Commission

[Docket Nos. RP88-68-042 and IN89-1-003]

Transcontinental Gas Pipe Line Corporation; Notice of Filing

May 10, 2000.

Take notice that on April 27, 2000, Transcontinental Gas Pipe Line Corporation (Transco) submitted a filing seeking a clarification of a May 29, 1991 Stipulation and Consent Agreement (Agreement) between the Enforcement section of the Office of the General Counsel and Transco. Transcontinental Gas Pipe Line Corporation, 55 FERC ¶61,318 (1991). Specifically, Transco asks clarification that employees of Transco's marketing affiliate, Williams Energy Marketing & Trading Company, who are not involved in natural gas related transactions may have offices in the same building in which Transco is headquartered.

Any person desiring to be heard or to protest such filing should file a motion to intervene or protest with the Federal Energy Regulatory Commission, 888 First Street, NE., Washington, DC 20426, in accordance with Rules 211 and 214 of the Commission's rules of Practice and Procedure (18 CFR 385.211 and 385.214). All such motions and protests should be filed on or before May 25, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance).

David P. Boergers,
Secretary.

[FR Doc. 00-12227 Filed 5-15-00; 8:45 am]

BILLING CODE 6717-01-M